DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by August 10, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection information displays a currently valid OMB control number and the agency informs potential persons who are to respond to the collection of information that such person are not required to respond to the collection of information unless it displays a currently valid OMB control number.

Office of the Chief Financial Officer

Title: Build America, Buy America (BABA) Waiver.

OMB Control Number: 0505-0028.

Summary of Collection: In accordance with section 70914 of the Build America Buy America Act (Pub. L. 117-58 §§ 70901-70952) (BABAA), recipients and subrecipients funded under USDA Federal financial assistance programs for infrastructure projects may not use their funds for these infrastructure projects unless they comply with the following BABAA sourcing requirements:

1. All iron and steel used in the project are produced in the United States.

2. All manufactured products used in the project are produced in the United States.

3. All construction materials are manufactured in the United States.

USDA agencies and staff offices may, in accordance with BABAA sections 70914(b) and (d), 70921(b), and 70935,, and the Office of Management and Budget (OMB) Memorandum M 22-11, Initial Implementation Guidance on Application of Buy America Preference in Federal Financial Assistance Programs for Infrastructure, approve waivers to BABAA sourcing requirements submitted by recipients and subrecipients under a Federal financial assistance program the USDA agency or staff office has identified as an infrastructure project, regardless of whether infrastructure is the primary purpose of the award.

Need and Use of the Information: The information will be collected by accessing the data collection electronically submitted by recipients and subrecipients. BABAA Waiver Request Data Collection and supporting documentation will be submitted via email to the USDA awarding agency or staff office point of contact. The information for each recipient and subrecipient is unique and, therefore, cannot take significant advantage of this technology. The BABAA Waiver Request Data Collection will be provided to the recipient and subrecipient to submit a waiver request from BABAA requirements as explained in the OMB Memorandum M-22-11 and required by the Infrastructure, Investments and Jobs Act (IIJA) sections 70901 through 70952.

The General Services Administration (GSA), in accordance with BABAA, is working with Federal agencies and OMB to develop a web based BABAA electronic data submission system that USDA anticipates participating in when the system becomes available. GSA began work on this endeavor and a completion date has not been established.

Description of Respondents: State, local and Indian tribal governments, Institutions of Higher Education (IHE), and nonprofit organizations.

Number of Respondents: 1.

Frequency of Responses: Reporting: Annually.

Total Burden Hours: 6.

Levi S. Harrell,
Departmental Information Collection Clearance Officer.

[FR Doc. 2023-14619 Filed 7-10-23; 8:45 am]

BILLING CODE 3410-KS-P